FEDERAL RETIREMENT THRIFT INVESTMENT BOARD

Sunshine Act Meetings

TIME AND DATE: 8:30 a.m. March 20, 2014.

PLACE: 10th Floor Board Meeting Room, 77 K Street NE., Washington, DC 20002.

STATUS: Parts will be open to the public and parts closed to the public.

MATTERS TO BE CONSIDERED:

Parts Open to the Public

1. Approval of the minutes of the February 24, 2014 Board Member Meeting.

2. Monthly Reports.

a. Monthly Participant Activity Report

b. Monthly Investment Policy Review

c. Legislative Report

3. L Fund Additional Investment Options.

4. Office of Resource Management Report and Summary of Employee Viewpoint Survey.

5. Office of Technology Services Report.

Parts Closed to the Public

1. Procurement.

CONTACT PERSON FOR MORE INFORMATION: Kimberly Weaver, Director, Office of External Affairs, (202) 942-1640.

Dated: March 11, 2014.
James B. Petrick,
Secretary, Federal Retirement Thrift Investment Board.

[FR Doc. 2014-05616 Filed 3-11-14; 11:15 am]

BILLING CODE 6760-01-P